DEPARTMENT OF JUSTICE

Drug Enforcement Administration

Manufacturer of Controlled Substances, Notice of Registration; Morton Grove Pharmaceuticals

By Notice dated September 25, 2012, and published in the Federal Register on October 2, 2012, 77 FR 60144, Morton Grove Pharmaceuticals, 6451 Main Street, Morton Grove, Illinois 60053-2633, made application by letter to the Drug Enforcement Administration (DEA) to be registered as a bulk manufacturer of Gamma Hydroxybutyric Acid (2010), a basic class of controlled substance listed in schedule I.

The company plans to manufacture the listed controlled substance for distribution to its customers.

No comments or objections have been received. DEA has considered the factors in 21 U.S.C. 823(a), and determined that the registration of Morton Grove Pharmaceuticals to manufacture the listed basic class of controlled substance is consistent with the public interest at this time. DEA has investigated Morton Grove Pharmaceuticals to ensure that the company's registration is consistent with the public interest. The investigation has included inspection and testing of the company's physical security systems; verification of the company's compliance with state and local laws; and a review of the company's background and history.

Therefore, pursuant to 21 U.S.C. 823(a), and in accordance with 21 CFR 1301.33, the above named company is granted registration as a bulk manufacturer of the basic class of controlled substance listed.

Dated: January 14, 2013.
Joseph T. Rannazzisi,
Deputy Assistant Administrator, Office of Diversion Control, Drug Enforcement Administration.

[FR Doc. 2013-01592 Filed 1-24-13; 8:45 am]

BILLING CODE 4410-09-P